DEPARTMENT OF TRANSPORTATION

Federal Aviation Administration

Notice of Intent To Rule on Change in Use of Aeronautical Property at Louisville International Airport, Louisville, KY

AGENCY: Federal Aviation Administration (FAA), DOT.

ACTION: Request for public comment.

SUMMARY: The Federal Aviation Administration is requesting public comment on request by the Louisville Regional Airport Authority to change a portion of airport property from aeronautical to non-aeronautical use at the Louisville International Airport, Louisville, Kentucky. The request consists approximately of 1.27 acres of fee simple release. This action is taken under the provisions of Section 125 of the Wendell H. Ford Aviation Investment Reform Act for the 21st Century (AIR 21).

DATES: Comments must be received on or before October 9, 2012.

ADDRESSES: Documents are available for review at the Louisville Regional Airport Authority, 700 Administration Drive, Louisville, KY 40209 and the FAA Memphis Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. Charles T. Miller, Executive Director, Louisville Regional Airport Authority, P.O. Box 9129, Louisville, KY 40209.

FOR FURTHER INFORMATION CONTACT: Mr. Tommy L. Dupree, Team Lead/Civil Engineer, Federal Aviation Administration, Memphis Airports District Office, 2862 Business Park Drive, Building G, Memphis, TN 38118. The application may be reviewed in person at this same location, by appointment.

SUPPLEMENTARY INFORMATION: The FAA proposes to rule and invites public comment on the request to release property at the Louisville International Airport, Louisville, KY 42103. Under the provisions of AIR 21 (49 U.S.C. 47107(h)(2)).

On August 23, 2012, the FAA determined that the request to release property at Louisville International Airport meets the procedural requirements of the Federal Aviation Administration. The FAA may approve the request, in whole or in part, no later than October 9, 2012.

The following is a brief overview of the request:

The Louisville Regional Airport Authority is proposing the release of approximately 1.27 acres, which include small portions of 28 various parcels located west of Louisville International Airport, bordered on the south by Woodlawn Avenue, bordered on the west by Louisville Avenue, bordered on the north by Dakota and Horn Avenue, and bordered on the east by Crittenden Drive. This release is for the swapping of like value property to the Commonwealth of Kentucky and the Louisville Metropolitan Government for the relocation of future Crittenden Drive.

Any person may inspect, by appointment, the request in person at the FAA office listed above under FOR FURTHER INFORMATION CONTACT.

Issued in Memphis, TN on August 23, 2012.
Tommy L. Dupree,
Acting Manager, Memphis Airports District Office, Southern Region.

[FR Doc. 2012-21540 Filed 9-5-12; 8:45 am]

BILLING CODE 4910-13-P